DEPARTMENT OF ENERGY

Federal Energy Regulatory Commission

[Project No. 14146-000]

Storage Development Partners, LLC; Notice of Preliminary Permit Application Accepted for Filing and Soliciting Comments, Motions To Intervene, and Competing Applications

On April 1, 2011, Storage Development Partners, LLC, filed an application for a preliminary permit, pursuant to section 4(f) of the Federal Power Act (FPA), proposing to study the feasibility of the Vandenberg #3 Project (project) to be located on Vandenberg Air Force Base, in Santa Barbara County, California. The sole purpose of a preliminary permit, if issued, is to grant the permit holder priority to file a license application during the permit term. A preliminary permit does not authorize the permit holder to perform any land-disturbing activities or otherwise enter upon lands or waters owned by others without the owners' express permission.

The proposed project would be a pumped storage project and consist of the following: (1) A new 30-foot-high earthen dam with a crest length of 3,359 feet; (2) an upper reservoir having a total storage capacity of 4,831 acre-feet at a normal maximum operating elevation of 1,900 feet mean sea level (msl); (3) four 15,100-foot-long, 25-foot-diameter steel lined penstocks extending between the upper reservoir's inlet/outlet and the pump/turbines below; (4) a breakwater area within the Pacific Ocean, serving as the lower reservoir; (5) an underground powerhouse with approximate dimensions of 250-feet-long by 75-feet-wide by 100-feet-high and containing four reversible pump/turbine-motor/generator units with a rated capacity of 284,148 kW each; (6) an 800-foot-long, 667-foot-wide concrete lined tailrace connecting the pump/turbine draft tubes with the lower inlet/outlet; (7) a lower inlet/outlet structure 100-feet below msl; (8) a 30-mile-long, 230-kilovolt (kV) transmission line extending from the powerhouse to an existing substation; and (9) appurtenant facilities. The estimated annual generation of the Vandenberg #3 Project would be 3,321 gigawatt-hours.

Applicant Contact: Mr. James Petruzzi, Managing Partner, Storage Development Partners, LLC., 4900 Woodway, Suite 745, Houston, Texas 77056; Telephone: 713-840-9994.

FERC Contact: Kenneth Hogan 202-502-8434.

Deadline for filing comments, motions to intervene, competing applications (without notices of intent), or notices of intent to file competing applications: 60 days from the issuance of this notice. Competing applications and notices of intent must meet the requirements of 18 CFR 4.36. Comments, motions to intervene, notices of intent, and competing applications may be filed electronically via the Internet. See 18 CFR 385.2001(a)(1)(iii) and the instructions on the Commission's Web site http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov or toll free at 1-866-208-3676, or for TTY, (202) 502-8659. Although the Commission strongly encourages electronic filing, documents may also be paper-filed. To paper-file, mail an original and seven copies to: Kimberly D. Bose, Secretary, Federal Energy Regulatory Commission, 888 First Street, NE., Washington, DC 20426.

More information about this project, including a copy of the application, can be viewed or printed on the “eLibrary” link of Commission's Web site at http://www.ferc.gov/docs-filing/elibrary.asp. Enter the docket number (P-14146) in the docket number field to access the document. For assistance, contact FERC Online Support.

Dated: April 22, 2011.
Kimberly D. Bose,
Secretary.

[FR Doc. 2011-10310 Filed 4-28-11; 8:45 am]

BILLING CODE 6717-01-P